DEPARTMENT OF THE INTERIOR

Geological Survey

[GX.23.DJ73.U9K10.00; OMB Control Number 1028-0131]

Agency Information Collection Activities; Submission to the Office of Management and Budget for Review and Approval; Water Resources Management—Institutional Resiliency and Data Delivery Needs Information Collection

AGENCY: U.S. Geological Survey, Department of the Interior.

ACTION: Notice of information collection; request for comment.

SUMMARY: In accordance with the Paperwork Reduction Act of 1995 (PRA), the U.S. Geological Survey (USGS) is proposing to renew an information collection.

DATES: Interested persons are invited to submit comments on or before August 24, 2023.

ADDRESSES: Written comments and recommendations for the proposed information collection should be sent within 30 days of publication of this notice to www.reginfo.gov/public/do/PRAMain. Find this particular information collection by selecting “Currently under 30-day Review—Open for Public Comments” or by using the search function. Comments should be sent by mail to U.S. Geological Survey, Information Collections Officer, 12201 Sunrise Valley Drive, MS 159, Reston, VA 20192; or by email to gs-info_collections@usgs.gov. Please reference OMB Control Number 1028-0131 in the subject line of your comments.

FOR FURTHER INFORMATION CONTACT: To request additional information about this Information Collection Request (ICR), contact Katrina Alger by email at kalger@usgs.gov, or by telephone at 608-828-9901. You may also view the ICR at http://www.reginfo.gov/public/do/PRAMain. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 19, 2023 (88 FR 32237). No comments were received.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The United States is facing growing challenges related to the availability of water due to shifting demographics, aging water-delivery infrastructure, and the impacts of climate change, which include flood and drought. Working with incomplete knowledge, managers must consider the needs of various demographic groups and economic sectors when making management decisions as well as when responding to emergencies. We will collect information regarding the decision-making process, data, and data-format needs to support daily, short-term, and long-term decision-making. Information will also be sought on the resiliency of water-resource management institutions. A lack of resiliency within water institutions can lead to poor decision-making and outcomes that produce conflict between water-use sectors, states, or communities and ultimately may lead to crises. This information will support the delivery of appropriate data, in appropriate formats, at the right time for decision-making and will support recommendations on how water-resource institutions can be more resilient in the face of the many water-resources challenges the nation currently faces.

Title of Collection: Water Resources Management—Institutional Resiliency and Data-Delivery Needs.

OMB Control Number: 1028-0131.

Form Number: None.

Type of Review: Extension of a currently approved collection.

Respondents/Affected Public: State, local, Tribal, Federal water-resource managers and water-resource stakeholders.

Total Estimated Number of Annual Respondents: 265.

Total Estimated Number of Annual Responses: 265.

Estimated Completion Time per Response: 10 to 60 minutes, depending on activity.

Total Estimated Number of Annual Burden Hours: 155.

Respondent's Obligation: Voluntary.

Frequency of Collection: Twice per year.

Total Estimated Annual Non-hour Burden Cost: None.

An agency may not conduct or sponsor, nor is a person required to respond to, a collection of information unless it displays a currently valid OMB control number.

The authority for this action is the PRA (44 U.S.C. 3501 et seq.).

Joseph Nielsen,
Director, Integrated Information Dissemination Division, USGS Water Resources Mission Area.

[FR Doc. 2023-15695 Filed 7-24-23; 8:45 am]

BILLING CODE 4338-11-P